DEPARTMENT OF COMMERCE

International Trade Administration

[C-570-011]

Certain Crystalline Silicon Photovoltaic Products From the People's Republic of China: Alignment of Final Countervailing Duty Determination With Final Antidumping Duty Determination

AGENCY: Enforcement and Compliance, International Trade Administration, Department of Commerce.

SUMMARY: The Department of Commerce (the Department) is aligning the final determination in this countervailing duty (CVD) investigation of certain crystalline silicon photovoltaic products (certain solar products) from the People's Republic of China (the PRC) with the final determination in the companion antidumping duty (AD) investigation.

DATES: Effective Date: July 31, 2014.

FOR FURTHER INFORMATION CONTACT: Gene Calvert or Justin Neuman, AD/CVD Operations, Office VII, Enforcement and Compliance, International Trade Administration, U.S. Department of Commerce, 14th Street and Constitution Avenue NW., Washington, DC 20230; telephone: (202) 482-3586 or (202) 482-0486, respectively.

SUPPLEMENTARY INFORMATION:

Background

On January 22, 2014, the Department initiated the AD and CVD investigations on certain solar products from the PRC.¹ On June 9, 2014, SolarWorld Industries America, Inc., i.e., Petitioner, timely requested alignment of the deadline for the final CVD determination with the deadline for the final determination in the companion AD investigation of certain solar products from the PRC,² in accordance with section 705(a) of the Tariff Act of 1930, as amended (the Act), 19 CFR 351.210(b)(4)(i), and 351.210(i). On June 10, 2014, the Department published the preliminary affirmative CVD determination pertaining to certain solar products from the PRC.³

¹ See Certain Crystalline Silicon Photovoltaic Products From the People's Republic of China: Initiation of Countervailing Duty Investigation, 79 FR 4667 (January 29, 2014), and Certain Crystalline Silicon Photovoltaic Products From the People's Republic of China and Taiwan: Initiation of Antidumping Duty Investigations, 79 FR 4661 (January 29, 2014).

² See the June 9, 2014, Letter to the Secretary, “Crystalline Silicon Photovoltaic Products from the People's Republic of China: Request to Align Countervailing Duty Final Determination with Antidumping Duty Final Determination.”

³ See Certain Crystalline Silicon Photovoltaic Products From the People's Republic of China: Preliminary Affirmative Countervailing Duty Determination, 79 FR 33174 (June 10, 2014).

Because the AD and CVD investigations were initiated simultaneously and involve the same class or kind of merchandise from the same country, we are aligning the deadline for the final CVD determination of certain solar products from the PRC with the deadline for the determination in the companion AD investigation of certain solar products from the PRC, in accordance with section 705(a)(1) of the Act and 19 CFR 351.210(b)(4)(i). The final CVD determination will be issued on the same date as the final AD determination, which is currently scheduled to be issued on or about December 16, 2014.

This notice is issued and published pursuant to section 705(a)(1) of the Act.

Dated: July 24, 2014.
Paul Piquado,
Assistant Secretary for Enforcement and Compliance.

[FR Doc. 2014-18056 Filed 7-30-14; 8:45 am]

BILLING CODE 3510-DS-P